Title 3—

The President

Proclamation 8049 of September 14, 2006

National Hispanic Heritage Month, 2006

By the President of the United States of America

A Proclamation

Americans are a diverse people, yet we are bound by common principles that teach us what it means to be American citizens. During National Hispanic Heritage Month, we recognize the many contributions of Hispanic Americans to our country.

Through hard work, faith in God, and a deep love of family, Hispanic Americans have pursued their dreams and contributed to the strength and vitality of our Nation. They have enriched the American experience and excelled in business, law, politics, education, community service, the arts, science, and many other fields. Hispanic entrepreneurs are also helping build a better, more hopeful future for all by creating jobs across our country. The number of Hispanic-owned businesses is growing at three times the national rate, and increasing numbers of Hispanic Americans own their own homes. We continue to benefit from a rich Hispanic culture and we are a stronger country because of the talent and creativity of the many Hispanic Americans who have shaped our society.

Throughout our history, Hispanic Americans have also shown their devotion to our country in their military service. Citizens of Hispanic descent have fought in every war since our founding and have taken their rightful place as heroes in our Nation's history. Today, Americans of Hispanic descent are serving in our Armed Forces with courage and honor, and their efforts are helping make America more secure and bringing freedom to people around the world.

As we celebrate National Hispanic Heritage Month, we applaud the accomplishments of Hispanic Americans and recognize the contributions they make to our great land. To honor the achievements of Hispanic Americans, the Congress, by Public Law 100-402, as amended, has authorized and requested the President to issue annually a proclamation designating September 15 through October 15 as “National Hispanic Heritage Month.”

NOW, THEREFORE, I, GEORGE W. BUSH, President of the United States of America, by virtue of the authority vested in me by the Constitution and the laws of the United States, do hereby proclaim September 15 through October 15, 2006, as National Hispanic Heritage Month. I call upon public officials, educators, librarians, and all the people of the United States to observe this month with appropriate ceremonies, activities, and programs.

IN WITNESS WHEREOF, I have hereunto set my hand this fourteenth day of September, in the year of our Lord two thousand six, and of the Independence of the United States of America the two hundred and thirty-first.

[FR Doc. 06-7858

Filed 9-18-06; 8:45 am]

Billing code 3195-01-P